INTERNATIONAL TRADE COMMISSION

[Investigation Nos. 701-TA-448 and 731-TA-1117 (Final)]

Certain Off-the-Road Tires From China; Determination

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from China of certain off-the-road tires, provided for in subheadings 4011.20.10, 4011.20.50, 4011.61.00, 4011.62.00, 4011.63.00, 4011.69.00, 4011.92.00, 4011.93.40, 4011.93.80, 4011.94.40, and 4011.94.80 of the Harmonized Tariff Schedule of the United States, that have been found by the Department of Commerce (Commerce) to be subsidized by the Government of China and sold in the United States at less than fair value (LTFV).² ³

¹ The record is defined in section 207.2(f) of the Commission's Rules of Practice and Procedure (19 CFR 207.2(f)).

² Vice Chairman Daniel R. Pearson dissenting.

³ The Commission also finds that imports subject to Commerce's affirmative critical circumstances determination are not likely to undermine seriously the remedial effect of the antidumping duty order on China.

Background

The Commission instituted these investigations effective June 18, 2007, following receipt of a petition filed with the Commission and Commerce by Titan Tire Corporation, Des Moines, Iowa, and The United Steel, Paper and Forestry, Rubber, Manufacturing, Energy, Allied Industrial and Service Workers International Union, AFL-CIO-CLC, Pittsburgh, PA. The final phase of the investigations was scheduled by the Commission following notification of a preliminary determination by Commerce that imports of certain off-the-road tires from China were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of March 3, 2008 (73 FR 11437). The hearing was held in Washington, DC, on July 8 and 9, 2008, and all persons who requested the opportunity were permitted to appear in person or by counsel.

The Commission transmitted its determination in these investigations to the Secretary of Commerce on August 28, 2008. The views of the Commission are contained in USITC Publication 4031 (August 2008), entitled Certain Off-The-Road Tires from China: Investigation Nos. 701-TA-448 and 731-TA-1117 (Final).

Issued: August 29, 2008.
By order of the Commission.
Marilyn R. Abbott,
Secretary to the Commission.

[FR Doc. E8-20532 Filed 9-4-08; 8:45 am]

BILLING CODE 7020-02-P